DEPARTMENT OF THE INTERIOR

Bureau of Land Management

[OR-025-1430-ES; G-03-0065]

Notice of intent to amend the Three Rivers Resource Management Plan

AGENCY: Bureau of Land Management.

ACTION: Notice of intent to amend the Three Rivers Resource Management Plan (RMP).

SUMMARY: This document provides notice that the Bureau of Land Management (BLM) intends to amend an RMP for the Three Rivers Resource Area. BLM intends to consider a land tenure adjustment allocation and associated land sale proposal, which would require amending an existing land use plan. The Three Rivers Resource Area covers the management of public land administered by the BLM in northern Harney County, Oregon. The plan amendment will fulfill the needs and obligations set forth by the National Environmental Policy Act (NEPA), the Federal Land Policy and Management Act (FLPMA), and BLM management policies. The BLM will work collaboratively with interested parties to identify the management decisions that are best suited to local, regional, and national needs and concerns.

DATES: This notice initiates the public scoping process. Comments on issues and planning criteria can be submitted in writing to the address listed below for 30 days following the publication of this notice in the Federal Register. Comments will be considered in an Environmental Assessment (EA) and plan amendment to be prepared by an interdisciplinary team, which will analyze the impacts of this proposal and a reasonable range of alternatives. No public meetings or field trips are scheduled at this time, but could be arranged if there is sufficient public interest. Any such meetings will be announced in the Burns Times-Herald with a minimum of 15 days advance notice.

ADDRESSES: Written comments on the proposed amendment, classification, and conveyance should be sent to the BLM Three Rivers Resource Area Field Office, 28910 Highway 20 West, Hines, OR 97738. Existing planning documents and information will be mailed to all known interested parties, and are available at the above address during normal working hours or online at the Burns District Web site at http://www.or.blm.gov/Burns under “Planning Documents” or by phone at (541) 573-4400. Availability of planning documents will be announced in the Burns Times-Herald.

FOR FURTHER INFORMATION CONTACT: Skip Renchler, Realty Specialist, Three Rivers Resource Area, 28910 Highway 20 West, Hines, Oregon 97738.

SUPPLEMENTARY INFORMATION: The purpose of the amendment is to facilitate the conveyance of public land containing the Burns Butte Shooting Range to the Burns Butte Sportsman's Club (Club). The Club has leased the land pursuant to the Recreation and Public Purposes Act of June 14, 1926, as amended (43 U.S.C. 869 et seq.) since 1992, and has fully developed the range in accordance with their approved plan of development. They have now made application to purchase the land under the Act. The existing RMP identifies the land for retention (Land Tenure Zone 1). If the plan amendment is approved the land will be rezoned for disposal through appropriate sale authorities (Land Tenure Zone 3).

The following described land is the subject of this proposed plan amendment and is being examined for classification and conveyance under the Recreation and Public Purposes Act:

Willamette Meridian

T.23S., R.30E.

Sec. 21, NE¼, N½SE¼.

The land described above aggregates 240 acres in Harney County, Oregon.

When completed, the EA and, if appropriate, Finding of No Significant Impact, will be available for a 30-day comment period.

There are no known significant issues related to this project as a change in land ownership is not expected to alter existing land uses. The interdisciplinary team will include, at a minimum, specialists in land use planning, realty, recreation, wildlife biology, and hazardous materials.

Comments, including names and addresses of commentors, will be available for public review. Individual respondents may request confidentiality. If you wish to withhold your name and/or address from public review or from disclosure under the Freedom of Information Act, you must state this prominently at the beginning of your written comment. Such requests will be honored to the extent allowed by law. All submissions from organizations or businesses and from individuals identifying themselves as representatives or officials of organizations or businesses, will be made available for inspection in their entirety.

Joan M. Suther,
Three Rivers Resource Area Field Manager.

[FR Doc. 03-8304 Filed 4-4-03; 8:45 am]

BILLING CODE 4310-33-P